DEPARTMENT OF THE INTERIOR

National Park Service

[2253-665]

Notice of Inventory Completion: University of Denver Department of Anthropology and Museum of Anthropology, Denver, CO; Correction

AGENCY: National Park Service, Interior.

ACTION: Notice; correction.

Notice is here given in accordance with the Native American Graves Protection and Repatriation Act (NAGPRA), 25 U.S.C. 3003, of the completion of an inventory of human remains and associated funerary objects in the possession of the University of Denver Department of Anthropology and Museum of Anthropology, Denver, CO. The human remains and cultural items were removed from Maricopa County or Pinal County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects for the Hill Ruin and Gila Plain Sites.

In the Federal Register (66 FR 55957-55958, Monday, November 5, 2001) paragraph number four is corrected by substituting the following paragraph:

Around 1925, human remains representing, at minimum, one individual were recovered from the Hill Ruin Site in either Maricopa or Pinal County, AZ, by archeologist Frank Midvale. At an unknown date, the remains were transferred to Fallis F. Rees, who donated them to the University of Denver Department of Anthropology and Museum of Anthropology in 1967. No known individuals were identified. The 283 associated funerary objects are: 1 Sacaton Red-on-Buff bowl, 1 Sacaton Red-on-Buff bowl fragment, 280 Sacaton phase and Santa Cruz phase projectile points, and 1 lot of calcined shell beads strung on twine.

Paragraph number six is corrected by substituting the following paragraph:

At an unknown date, human remains representing, at minimum, one individual were recovered from an unknown site in the Gila Plain, in either Maricopa or Pinal County, AZ, by an unknown person. The remains were cremated and are in fragmentary condition. At an unknown date, the remains came into the possession of Fallis F. Rees, who donated them to the University of Denver Department of Anthropology and Museum of Anthropology in 1967. No known individuals were identified. The eight associated funerary objects are: 1 plainware “cremation” bowl, 1 “cremation” olla, 2 buff ceramic rim sherds, 1 piece of cut and decorated mica, 1 shell fragment, 1 possible shell bracelet, and 1 lot of fragmented faunal remains.

Paragraph number ten is corrected by substituting the following paragraph:

Officials of the University of Denver Department of Anthropology and Museum of Anthropology have determined that:

• Pursuant to 43 CFR 10.2(d)(1), the human remains listed above represent the physical remains of, at minimum, two individuals of Native American ancestry.

• Pursuant to 43 CFR 10.2(d)(2), the 291 objects listed above are reasonably believed to have been placed with or near individual human remains at the time of death or later as part of the death rite or ceremony.

• Pursuant to 43 CFR 10.2(e), there is a relationship of shared group identity that can be reasonably traced between these Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico (herein after referred to as “The Tribes”).

Representatives of any other Indian tribe that believes itself to be culturally affiliated with the human remains and associated funerary objects should contact Anne Amati, NAGPRA Coordinator/Registrar, University of Denver Department of Anthropology and Museum of Anthropology, 2000 E Asbury Ave. Sturm Hall 146, Denver, CO 80208, telephone (303) 871-2687, before January 23, 2012. Repatriation of the human remains and associated funerary objects to The Tribes may proceed after that date if no additional claimants come forward.

The University of Denver Department of Anthropology and Museum of Anthropology is responsible for notifying The Tribes that this notice has been published.

Dated December 20, 2011.
Sherry Hutt,
Manager, National NAGPRA Program.

[FR Doc. 2011-32946 Filed 12-22-11; 8:45 am]

BILLING CODE 4312-50-P